DEPARTMENT OF HOMELAND SECURITY

Federal Emergency Management Agency

[Docket ID FEMA-2016-0002; Internal Agency Docket No. FEMA-B-1669]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations. The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 16, 2017.
Roy E. Wright,
Deputy Associate Administrator for Insurance and Mitigation, Department of Homeland Security, Federal Emergency Management Agency.

State and county | Location and case No. | Chief executive officer of community | Community map repository | Online location of letter of map revision | Effective date of modification | Community No.
Alaska: Fairbanks North Star Borough | Fairbanks North Star Borough (16-10-1346P) | The Honorable Karl Kassel, Mayor, Fairbanks North Star Borough, P.O. Box 71267, Fairbanks, AK 99707 | Department of Community Planning, Borough Administrative Center, 809 Pioneer Road, Fairbanks, AK 99701 | http://www.msc.fema.gov/lomc | Mar. 3, 2017 | 025009
Arizona:
Maricopa | City of Chandler (16-09-2684P) | The Honorable Jay Tibshraeny, Mayor, City of Chandler, City Hall, 175 South Arizona Avenue, Chandler, AZ 85225 | Public Works Department, 215 East Buffalo Street, Chandler, AZ 85244 | http://www.msc.fema.gov/lomc | Mar. 10, 2017 | 040040
Maricopa | City of Scottsdale (16-09-1225P) | The Honorable W.J. “Jim” Lane, Mayor, City of Scottsdale, 3939 North Drinkwater Boulevard, Scottsdale, AZ 85251 | Planning Records, 7447 East Indian School Road, Suite 100, Scottsdale, AZ 85251 | http://www.msc.fema.gov/lomc | Mar. 23, 2017 | 045012
Maricopa | Town of Gilbert (16-09-2684P) | The Honorable Jenn Daniels, Mayor, Town of Gilbert, 50 East Civic Center Drive, Gilbert, AZ 85296 | Municipal Center, 50 East Civic Center Drive, Gilbert, AZ 85296 | http://www.msc.fema.gov/lomc | Mar. 10, 2017 | 040044
Maricopa | Town of Wickenburg (16-09-1385P) | The Honorable John Cook, Mayor, Town of Wickenburg, 155 North Tegner Street, Suite A, Wickenburg, AZ 85390 | Town Hall, 155 North Tegner Street, Wickenburg, AZ 85390 | http://www.msc.fema.gov/lomc | Mar. 17, 2017 | 040056
Maricopa | Unincorporated Areas of Maricopa County (16-09-1225P) | The Honorable Clint L. Hickman, Chairman, Board of Supervisors, Maricopa County, 301 West Jefferson Street, 10th Floor, Phoenix, AZ 85003 | Flood Control District of Maricopa County, 2801 West Durango Street, Phoenix, AZ 85009 | http://www.msc.fema.gov/lomc | Mar. 23, 2017 | 040037
Maricopa | Unincorporated Areas of Maricopa County (16-09-1385P) | The Honorable Clint L. Hickman, Chairman, Board of Supervisors, 301 West Jefferson Street, 10th Floor, Phoenix, AZ 85003 | Flood Control District of Maricopa County, 2801 West Durango Street, Phoenix, AZ 85009 | http://www.msc.fema.gov/lomc | Mar. 17, 2017 | 040037
Pima | City of Tucson (16-09-0670P) | The Honorable Jonathan Rothschild, Mayor, City of Tucson, City Hall, 255 West Alameda Street, 10th Floor, Tucson, AZ 85701 | Planning and Development Services, 201 North Stone Avenue, 1st Floor, Tucson, AZ 85701 | http://www.msc.fema.gov/lomc | Mar. 3, 2017 | 040076
Pima | Town of Marana (16-09-1535P) | The Honorable Ed Honea, Mayor, Town of Marana, 11555 West Civic Center Drive, Marana, AZ 85653 | Pima County Flood Control District, 201 North Stone Avenue, 9th Floor, Tucson, AZ 85701 | http://www.msc.fema.gov/lomc | Mar. 14, 2017 | 040118
California:
Orange | City of Mission Viejo (16-09-1691P) | The Honorable Frank Ury, Mayor, City of Mission Viejo, 200 Civic Center, Mission Viejo, CA 92691 | City Hall, 200 Civic Center, Mission Viejo, CA 92691 | http://www.msc.fema.gov/lomc | Mar. 20, 2017 | 060735
Placer | City of Rocklin (16-09-1095P) | The Honorable Greg Janda, Mayor, City of Rocklin, 3970 Rocklin Road, Rocklin, CA 95677 | Engineering Department, 3970 Rocklin Road, Rocklin, CA 95677 | http://www.msc.fema.gov/lomc | Mar. 10, 2017 | 060242
Placer | Town of Loomis (16-09-1095P) | The Honorable Brian Baker, Mayor, Town of Loomis, 3665 Taylor Road, Loomis, CA 95650 | Town Hall, 3665 Taylor Road, Loomis, CA 95650 | http://www.msc.fema.gov/lomc | Mar. 10, 2017 | 060721
Riverside | City of Moreno Valley (16-09-2170P) | The Honorable Yxstian Gutierrez, Mayor, City of Moreno Valley, 14177 Frederick Street, Moreno Valley, CA 92553 | Public Works Department, 14177 Frederick Street, Moreno Valley, CA 92553 | http://www.msc.fema.gov/lomc | Mar. 6, 2017 | 065074
Riverside | City of Riverside (16-09-2070P) | The Honorable Rusty Bailey, Mayor, City of Riverside, 3900 Main Street, Riverside, CA 92501 | Planning and Building Department, 3900 Main Street, Riverside, CA 92501 | http://www.msc.fema.gov/lomc | Mar. 20, 2017 | 060260
Riverside | Unincorporated Areas of Riverside County (16-09-2070P) | The Honorable John Benoit, Chairman, Board of Supervisors, Riverside County, 4080 Lemon Street, 5th Floor, Riverside, CA 92501 | Riverside County Flood Control and Water Conservation District, 1995 Market Street, Riverside, CA 92502 | http://www.msc.fema.gov/lomc | Mar. 20, 2017 | 060245
San Benito | City of Hollister (16-09-0929P) | The Honorable Ignacio Velazquez, Mayor, City of Hollister, 375 5th Street, Hollister, CA 95023 | City Hall, 375 5th Street, Hollister, CA 95023 | http://www.msc.fema.gov/lomc | Feb. 27, 2017 | 060268
San Benito | Unincorporated Areas of San Benito County (16-09-0929P) | The Honorable Robert Rivas, Chairman, Board of Supervisors, San Benito County, 481 4th Street, 1st Floor, Hollister, CA 95023 | San Benito County Planning Department, 2301 Technology Parkway, Hollister, CA 95023 | http://www.msc.fema.gov/lomc | Feb. 27, 2017 | 060267
Santa Clara | City of Milpitas (16-09-1351P) | The Honorable Jose Esteves, Mayor, City of Milpitas, 455 East Calaveras Boulevard, Milpitas, CA 95035 | Engineering Division, 455 East Calaveras Boulevard, Milpitas, CA 95035 | http://www.msc.fema.gov/lomc | Feb. 21, 2017 | 060344
Colorado:
Boulder | Town of Jamestown (16-08-0630P) | The Honorable Tara Schoedinger, Mayor, Town of Jamestown, P.O. Box 298, Jamestown, CO 80455 | Town Hall, 118 Main Street, Jamestown, CO 80455 | http://www.msc.fema.gov/lomc | Feb. 23, 2017 | 080216
Boulder | Unincorporated Areas of Boulder County (16-08-0630P) | The Honorable Elise Jones, Chair, Boulder County Commissioners, P.O. Box 471, Boulder, CO 80306 | Boulder County Transportation Department, 2525 13th Street, Suite 203, Boulder, CO 80306 | http://www.msc.fema.gov/lomc | Feb. 23, 2017 | 080023
Hawaii: Maui | Maui County (16-09-0721P) | The Honorable Alan Arakawa, Mayor, County of Maui, 200 South High Street, Kalana O Maui Building 9th Floor, Wailuku, HI 96793 | Planning Department, 2200 Main Street, Suite 315, Wailuku, HI 96793 | http://www.msc.fema.gov/lomc | Mar. 14, 2017 | 150003
Idaho: Ada | City of Eagle (16-10-1265P) | The Honorable Stan Ridgeway, Mayor, City of Eagle, P.O. Box 1520, Eagle, ID 83616 | City Hall, 310 East State Street, Eagle, ID 83616 | http://www.msc.fema.gov/lomc | Mar. 23, 2017 | 160003
Illinois:
Cook | Village of Westchester (16-05-5494P) | The Honorable Sam D. Pulia, Village President, Village of Westchester, 10300 West Roosevelt Road, Westchester, IL 60154 | Building Department, 10300 West Roosevelt, Road, Westchester, IL 60154 | http://www.msc.fema.gov/lomc. | Mar. 16, 2017 | 170170
La Salle | City of Peru (16-05-4827P) | The Honorable Scott J. Harl, Mayor, City of Peru, 1901 4th Street, Peru, IL 61354 | City Hall, 1901 4th Street, Peru, IL 61354 | http://www.msc.fema.gov/lomc. | Mar. 16, 2017 | 170406
Will | City of Lockport (16-05-6547P) | The Honorable Steven Streit, Mayor, City of Lockport, 222 East 9th Street, Lockport, IL 60441 | Public Works and Engineering, 17112 South Prime Boulevard, Lockport, IL 60441 | http://www.msc.fema.gov/lomc. | Mar. 17, 2017 | 170703
Indiana: Allen | City of Fort Wayne (16-05-3584P) | The Honorable Tom, Henry, Mayor, City of Fort Wayne, 200 East Berry Street Suite 420, Fort Wayne, IN 46802 | Department of Planning Services, 200 East Berry Street, Suite 150, Fort Wayne, IN 46802 | http://www.msc.fema.gov/lomc | Mar. 10, 2017 | 180003
Kansas:
Pottawatomie | Unincorporated Areas of Pottawatomie County (16-07-1702P) | The Honorable Robert Reece, County Administrator Pottawatomie County, 207 North 1st Street, Westmoreland, KS 66549 | County Office Building, 207 North 1st Street, Westmoreland, KS 66549 | http://www.msc.fema.gov/lomc | Mar. 10, 2017 | 200621
Riley | City of Manhattan (16-07-0749P) | The Honorable Usha Reddi, Mayor, City of Manhattan, 1101 Poyntz Avenue, Manhattan, KS 66502 | City Hall, 1101 Poyntz Avenue, Manhattan, KS 66502 | http://www.msc.fema.gov/lomc | Feb. 17, 2017 | 200300
Riley | City of Manhattan (16-07-1702P) | The Honorable Usha Reddi, Mayor, City of Manhattan, 1101 Poyntz Avenue, Manhattan, KS 66502 | City Hall, 1101 Poyntz Avenue, Manhattan, KS 66502 | http://www.msc.fema.gov/lomc | Mar. 10, 2017 | 200300
Riley | Unincorporated Areas of Riley County (16-07-0749P) | The Honorable Ben Wilson, Chair, Riley County Commissioner, 2488 Woodside Lane, Manhattan, KS 66503 | Riley County Office Building, 110 Courthouse Plaza, Manhattan, KS 66502 | http://www.msc.fema.gov/lomc | Feb. 17, 2017 | 200298
Michigan:
Macomb | Charter Township of Clinton (16-05-3582P) | The Honorable Bob Cannon, Township Supervisor Clinton Township, 40700 Romeo Plank Road, Clinton Township, MI 48038 | City Hall, 40700 Romeo Plank Road, Clinton Township, MI 48038 | http://www.msc.fema.gov/lomc | Feb. 9, 2017 | 260121
Macomb | City of Sterling Heights (16-05-3582P) | The Honorable Michael C. Taylor, Mayor, City of Sterling Heights, 40555 Utica Road, Sterling Heights, MI 48313 | City Hall, 40555 Utica Road, Sterling Heights, MI 48313 | http://www.msc.fema.gov/lomc | Feb. 9, 2017 | 260128
Minnesota:
Anoka | City of Blaine (16-05-6101P) | The Honorable Thomas Ryan, Mayor, City of Blaine, 12147 Radisson Road Northeast, Blaine, MN 55449 | City Hall Offices, 10801 Town Square Drive Northeast, Blaine, MN 55449 | http://www.msc.fema.gov/lomc | Mar. 3, 2017 | 270007
Mower | City of Austin (16-05-4681P) | The Honorable Tom Stiehm, Mayor, City of Austin, 500 4th Avenue Northeast, Austin, MN 55912 | City Hall, 500 4th Avenue Northeast, Austin, MN 55912 | http://www.msc.fema.gov/lomc | Feb. 22, 2017 | 275228
St. Louis | City of Duluth (16-05-5620P) | The Honorable Emily Larson, Mayor, City of Duluth, 411 West 1st Street Room 402, Duluth, MN 55802 | City Hall, 411 West 1st Street, Room 201, Duluth, MN 55802 | http://www.msc.fema.gov/lomc | Mar. 22, 2017 | 270421
Missouri: St. Louis | City of Chesterfield (16-07-1325P) | The Honorable Bob Nation, Mayor, City of Chesterfield, 690 Chesterfield Parkway West, Chesterfield, MO 63017 | City Hall, 690 Chesterfield Parkway West, Chesterfield, MO 63017 | http://www.msc.fema.gov/lomc | Mar. 9, 2017 | 290896
Nevada:
Clark | City of Henderson (16-09-1303P) | The Honorable Andy A. Hafen, Mayor, City of Henderson, City Hall, 240 South Water Street, Henderson, NV 89015 | Public Works Department, 240 South Water Street, Henderson, NV 89015 | http://www.msc.fema.gov/lomc | Feb. 28, 2017 | 320005
Clark | City of Henderson (16-09-2671P) | The Honorable Andy A. Hafen, Mayor, City of Henderson, City Hall, 240 South Water Street, Henderson, NV 89015 | Public Works Department, 240 South Water Street, Henderson, NV 89015 | http://www.msc.fema.gov/lomc | Mar. 7, 2017 | 320005
Clark | City of Henderson (16-09-2725P) | The Honorable Andy A. Hafen, Mayor, City of Henderson, City Hall, 240 South Water Street, Henderson, NV 89015 | Public Works Department, 240 South Water Street, Henderson, NV 89015 | http://www.msc.fema.gov/lomc | Mar. 22, 2017 | 320005
Clark | Unincorporated Areas of Clark County (16-09-1303P) | The Honorable Steve Sisolak, Chairman, Board of Supervisors, Clark County, 500 South Grand Central Parkway, 6th Floor, Las Vegas, NV 89106 | Office of the Director of Public Works, 500 South Grand Central Parkway, Las Vegas, NV 89155 | http://www.msc.fema.gov/lomc | Feb. 28, 2017 | 320003
New York: Ulster | Town of Ulster (16-02-1921P) | The Honorable James E. Quigley 3rd, Supervisor, Town of Ulster, 1 Town Hall Drive, Lake Katrine, NY 12449 | Town Hall, 1 Town Hall Drive, Lake Katrine, NY 12449 | http://www.msc.fema.gov/lomc | Apr. 5, 2017 | 360866
Ohio: Delaware | Unincorporated Areas of Delaware County (16-05-4340P) | The Honorable Barb Lewis, Delaware County Board of Commissioners, 101 North Sandusky Street, Delaware, OH 43015 | Code Compliance Building, 50 Channing Street South Wing, Delaware, OH 43015 | http://www.msc.fema.gov/lomc | Mar. 15, 2017 | 390146
Texas:
Dallas | City of Mesquite (16-06-3624P) | The Honorable Stan Pickett, Mayor, City of Mesquite, 757 North Galloway Avenue, Mesquite, TX 75149 | City Engineering Services, 1515 North Galloway Avenue, Mesquite, TX 75185 | http://www.msc.fema.gov/lomc | Mar. 9, 2017 | 485490
Dallas | City of Mesquite (16-06-3625P) | The Honorable Stan Pickett, Mayor, City of Mesquite, 757 North Galloway Avenue, Mesquite, TX 75149 | City Engineering Services, 1515 North Galloway Avenue, Mesquite, TX 75185 | http://www.msc.fema.gov/lomc | Mar. 10, 2017 | 485490
Dallas | Unincorporated Areas of Dallas County (16-06-3625P) | The Honorable Clay L. Jenkins, County Judge, Dallas County, 411 Elm Street, Dallas, TX 75202 | City Hall, 320 East Jefferson Boulevard, Room 321, Dallas, TX 75203 | http://www.msc.fema.gov/lomc | Mar. 10, 2017 | 480165
Wisconsin:
Dane | City of Madison (16-05-6112P) | The Honorable Paul R. Soglin, Mayor, City of Madison, 210 Martin Luther King Jr. Boulevard, Room 403, Madison, WI 53703 | City Hall, 210 Martin Luther King Jr. Boulevard, Room 403, Madison, WI 53703 | http://www.msc.fema.gov/lomc | Mar. 10, 2017 | 550083
Kenosha | Village of Pleasant Prairie (16-05-7542P) | The Honorable John Steinbrink, President, Village of Pleasant Prairie, Village Hall, 9915 39th Avenue, Pleasant Prairie, WI 53158 | Village Hall, 9915 39th Avenue, Pleasant Prairie, WI 53158 | http://www.msc.fema.gov/lomc | Mar. 23, 2017 | 550613

[FR Doc. 2017-05450 Filed 3-17-17; 8:45 am]

BILLING CODE 9110-12-P